ENVIRONMENTAL PROTECTION AGENCY

[EPA-HQ-OAR-2003-0152; FRL-9902-86-OEI]

Information Collection Request Submitted to OMB for Review and Approval; Comment Request; Compliance Assurance Monitoring Program (Renewal)

AGENCY: Environmental Protection Agency (EPA).

ACTION: Notice.

SUMMARY: The Environmental Protection Agency has submitted an information collection request (ICR), Compliance Assurance Monitoring Program (Renewal) to the Office of Management and Budget (OMB) for review and approval in accordance with the Paperwork Reduction Act. This is a proposed extension of the information collection request, which is currently approved through December 31, 2013. Public comments were previously requested via the Federal Register (78 FR 35631) on June 13, 2013 during a 60-day public comment period. This notice allows for an additional 30 days for public comments. A fuller description of the ICR is given below, including its estimated burden and cost to the public. An agency may not conduct or sponsor and a person is not required to respond to a collection of information unless it displays a currently valid OMB control number.

DATES: Additional comments may be submitted on or before December 18, 2013.

ADDRESSES: Submit your comments, referencing Docket ID No. EPA-HQ-OAR-2003-0152 online using www.regulations.gov (our preferred method), by email to a-and-r-docket@epa.gov or by mail to: EPA Docket Center, Environmental Protection Agency, Mail Code 28221T, 1200 Pennsylvania Ave. NW., Washington, DC 20460 and (2) OMB via email to oira_submission@omb.eop.gov. Address comments to OMB Desk Officer for EPA.

The EPA's policy is that all comments received will be included in the public docket without change, including any personal information provided, unless the comment includes profanity, threats, information claimed to be Confidential Business Information or other information whose disclosure is restricted by statute.

FOR FURTHER INFORMATION CONTACT: Angela Hackel, Office of Air Quality and Planning Standards, Sector Policies and Programs Division (D243-05), Environmental Protection Agency, Research Triangle Park, NC 27711; telephone number: (919) 541-5262; fax number: (919) 541-3207; email address: hackel.angela@epa.gov.

SUPPLEMENTARY INFORMATION: Supporting documents, which explain in detail the information that the EPA will be collecting, are available in the public docket for this information collection request. The docket can be viewed online at www.regulations.gov or in person at the EPA Docket Center, WJC West Building, Room 3334, 1301 Constitution Ave. NW., Washington, DC. The telephone number for the Docket Center is (202) 566-1744. For additional information about the EPA's public docket, visit: http://www.epa.gov/dockets.

EPA ICR Number: 1663.08.

OMB Control Number: 2060-0376.

Abstract: The Clean Air Act (the CAA) contains several provisions directing EPA to require source owners to conduct monitoring to support certification as to their status of compliance with applicable requirements. These provisions are set forth in Section 504 (operating permits provisions) and Section 114 (enforcement provisions) of the CAA. Section 504(b) directs EPA to implement monitoring and certification requirements through the operating permits program. This section allows EPA to prescribe by rule, methods and procedures for determining compliance recognizing that continuous emissions monitoring systems need not be required if other procedures or methods provide sufficiently reliable and timely information for determining compliance. Under section 504(c), each operating permit must “set forth inspection, entry, monitoring, compliance, certification, and reporting requirements to assure compliance with the permit terms and conditions.” Section 114(a)(3) requires EPA to promulgate rules for enhanced monitoring and compliance certifications. Section 114(a)(1) of the provides additional authority concerning monitoring, reporting, and record keeping requirements. This section provides the Administrator with the authority to require any owner or operator of a source to install and operate monitoring systems and to record the resulting monitoring data. EPA promulgated the Compliance Assurance Monitoring (CAM) rule, 40 CFR part 64, on October 22, 1997 (62 FR 54900) to implement these authorities.

Form Numbers: None.

Respondents/affected entities: All facilities required to have an operating permit under Title V of the CAA and the state, local and tribal permitting authorities that implement the CAM program.

Respondent's obligation to respond: Mandatory under Title V of the CAA.

Estimated number of respondents: 23,235

Frequency of response: At least every 6 months per Title V and the implementing regulations at 40 CFR 70.6(a)(3)(iii)(A) and (B).

Total estimated burden: 50,473 hours (per year). Burden is defined at 5 CFR 1320.3(b).

Total estimated cost: $2,031,643 (per year), which includes no annualized capital or operation and maintenance costs.

Changes in Estimates: There is decrease of 7,403,108 hours in the total estimated respondent burden compared with the ICR currently approved by OMB. This decrease is a result of the fact that most facilities are now using electronic monitoring systems that automatically record the output of the monitor, thus, resulting in a decrease in the number of labor hours needed to record the monitoring results. Additionally, all affected facilities with existing Title V permits have now submitted their CAM monitoring approach in their permit renewal applications, therefore, significantly reducing the costs for new monitoring development. Also, we reviewed the reporting and recordkeeping requirements of the Title V permit program vis-à-vis those required under the CAM program. We found that, with the exception of sources required to develop a quality improvement plan, sources were meeting the reporting and recordkeeping requirements for CAM by complying with the requirements of the Title V program. We revised some of our assumptions to account for the additional requirements set forth under the CAM rule that are not outlined in the Title V program, while at the same time ensuring that requirements met under the Title V program were not being re-counted in this assessment. Furthermore, in order to reflect projected trends for the next 3 years, we updated some of the formulas used to calculate burden.

John Moses,
Director, Collection Strategies Division.

[FR Doc. 2013-27426 Filed 11-15-13; 8:45 am]

BILLING CODE 6560-50-P